DEPARTMENT OF ENERGY

Federal Energy Regulatory Commission

[Docket No. RP03-136-001]

Alliance Pipeline L.P.; Notice of Compliance Filing

January 16, 2003.

Take notice that on January 10, 2003, Alliance Pipeline L.P. (Alliance) tendered for filing as part of its FERC Gas Tariff, Original Volume No. 1, the following tariff sheets, proposed to become effective January 1, 2003:

Substitute First Revised Sheet No. 10

Substitute First Revised Sheet No. 257

Substitute First Revised Sheet No. 258

Alliance states that the filing is being made in compliance with the Commission's order issued on December 31, 2002, in the above referenced proceeding.

Alliance states that copies of its filing have been mailed to all customers, state commissions, and other interested parties.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 23, 2003.

Magalie R. Salas,
Secretary.

[FR Doc. 03-1512 Filed 1-22-03; 8:45 am]

BILLING CODE 6717-01-P